DEPARTMENT OF AGRICULTURE

Commodity Credit Corporation

Notice of Funds Availability; Inviting Applications for the Quality Samples Program; Correction

AGENCY: Foreign Agricultural Service, U.S. Department of Agriculture.

ACTION: Notice; correction.

SUMMARY: The Foreign Agricultural Service published a document in the Federal Register of April 23, 2012, concerning funds availability and inviting applications for the Quality Samples Program (QSP). The document contained incorrect dates.

FOR FURTHER INFORMATION CONTACT: Mark Slupek, 202-720-4327.

Correction

In the Federal Register of April 23, 2012, in FR Doc. 2012-9635, on page 24166, in the third column, correct the DATES caption to read:

DATES: To be considered for funding, applications must be received by 5 p.m. Eastern Daylight Time, May 23, 2012. Any applications received after this time will be considered only if funds are still available.

IV. Application and Submission Information

In the Federal Register of April 23, 2012, in FR Doc. 2012-9635, on page 24168, in the second column, correct the “3. Submission Dates and Times” caption to read:

3. Submission Dates and Times. QSP funding is reviewed on a rolling basis during the fiscal year as long as remaining QSP funding is available as set forth below:

• Proposals received by, but not later than 5 p.m. Eastern Daylight Time, May 23, 2012, will be considered for funding with other proposals received by that date;

• Proposals not approved for funding during this review period will be reconsidered for funding after the review period only if the applicant specifically requests such reconsideration in writing, and only if funding remains available;

• Proposals received after 5 p.m. Eastern Daylight Time, May 23, 2012, will be considered in the order received for funding only if funding remains available.

In the Federal Register of April 23, 2012, in FR Doc. 2012-9635, on page 24168, in the second column, correct the “4. Other Submission Requirements” caption to read:

4. Other Submission Requirements: All Internet-based applications must be properly submitted by 5 p.m., Eastern Daylight Time, May 23, 2012, in order to be considered for funding; late submissions received after the deadline will be considered only if funding remains available. All applications submitted by email must be received by 5 p.m. Eastern Daylight Time, May 23, 2012, at podadmin@fas.usda.gov in order to receive the same consideration.

Dated: April 27, 2012.
Suzanne E. Heinen,
Administrator, Foreign Agricultural Service, and Vice President, Commodity Credit Corporation.

[FR Doc. 2012-11121 Filed 5-8-12; 8:45 am]

BILLING CODE 3410-10-P